DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 22821-29, dated April 30, 2010) is amended to reflect the reorganization of the Division of Blood Disorders within the National Center on Birth Defects and Developmental Disabilities, Office of Noncommunicable Diseases, Injury and Environmental Health, Centers for Disease Control and Prevention.

Section C-B, Organization and Functions, is hereby amended as follows:

Delete in its entirety the title and function statement for the Office of the Director (CUBD1) and insert the following.

Office of the Director (CUBD1). (1) Provides leadership and guidance on strategic planning and implementation, program priority setting, and policy development, to advance the mission of the Division of Blood Disorders, NCBDDD and CDC; (2) develops goals, objectives, and budget; monitors progress and allocation of resources, and reports accomplishments, future directions, and resource requirements; (3) facilitates scientific, policy and program collaboration among divisions and centers, and between CDC and other Federal/non-Federal partners; (4) promotes advancement of science throughout the division, supports program evaluation, and ensures that research meets the highest standards in the field; (5) provides medical expertise and consultation to planning, projects, policies and program activities; (6) advises the Office of the Director of NCBDDD on matters relating to prevention of complications due to blood disorders and coordinates division responses to requests for technical assistance or information on activities supported by the division; (7) develops and produces communications tools and public affairs strategies to meet the needs of division programs and mission; (8) represents the division at official professional and scientific meetings, both within and outside of CDC; (9) applies evaluation and prevention effectiveness functions in the assessment of blood disorder programs, projects and activities; (10) develops, implements and evaluates long term plans for surveillance, research and prevention activities pertaining to blood disorders; and (11) drafts and disseminates reports of future plans and needs to inform policy.

After the Office of the Director (CUBD1) Division of Blood Disorders, National Center on Birth Defects and Developmental Disabilities, Office of Noncommunicable Diseases, Injury and Environmental Health, Centers for Disease Control and Prevention, insert the following:

Epidemiology and Surveillance Branch (CUBDB). (1) Provides scientific leadership in the design and implementation of monitoring systems as well as designs and conducts epidemiologic and genetic research to identify causes, risk factors and complications of blood disorders in affected populations; (2) designs and manages surveillance systems to evaluate the incidence, morbidity, and mortality associated with blood diseases and disorders; (3) plans, develops and coordinates special surveys and populations studies to monitor and assess the complications of blood disorders; (4) designs and implements studies using surveillance data to identify risk factors for the complications of blood disorders, and evaluates the effectiveness of the prevention activities; (5) provides epidemiologic and medical consultation and technical assistance, including epidemic aids to State and local health departments, other governmental agencies, and other public and private institutions in the investigation of blood disorders and related complications; (6) designs and implements studies to evaluate the effectiveness of implemented prevention strategies in the treatment centers; (7) works closely with internal and external organizations in applying prevalence and incidence data to target and evaluate programs to prevent the complications of blood diseases and chronic hereditary disorders; (8) publishes findings and advances arising out of surveillance and epidemiologic research to the scientific and public health communities; (9) provides training services to States, localities, and other countries in investigation, diagnosis, prevention, and control of blood diseases and chronic hereditary disorders; (10) assists in designing, implementing, and evaluating prevention and counseling programs for persons and their families with chronic blood diseases and selected chronic hereditary disorders; (11) designs, implements and coordinates the prevention and surveillance activities of specialized Federally funded prevention centers organized to prevent the complications of blood diseases and chronic hereditary disorders; (12) conducts and supports both qualitative and quantitative research to expand the knowledge base related to blood disorders across the lifespan; and (13) collaborates with laboratory research branch and prevention research branch and incorporates the findings of these branches' activities which leads to prevention of complications of blood disorders.

Laboratory Research Branch (CUBDC). (1) Identifies new genetic markers of risk factors and clotting defects for affected groups; (2) provides reference laboratory diagnosis for multi-site epidemiologic and surveillance studies; (3) develops techniques and interpretation methods to improve molecular and coagulation diagnosis; (4) provides diagnostic support for epidemiologic studies and epidemic aids on emerging blood disorders and chronic hereditary disorders; (5) determines the mechanisms of pathogenesis and complications of blood disorders and chronic hereditary disorders; (6) conducts research and provides reference services on diagnostic techniques for blood disorders and chronic hereditary disorders; (7) conducts research to improve laboratory methodologies and materials; (8) where appropriate, maintains the national reference laboratory for blood disorders and chronic hereditary disorders; (9) works closely with entities and organizations within the agency and organizations external to the agency to provide laboratory services in support of projects whose primary aim is to prevent and reduce complications associated with blood disorders and chronic hereditary disorders; and (10) publishes findings and advances arising out of surveillance and epidemiologic research to the scientific and public health communities.

Prevention Research and Informatics Branch (CUBDD). (1) Performs health services research; (2) translates and evaluates the latest scientific advances from surveillance, epidemiology and laboratory support into enhanced delivery of care, prevention services, and information for affected populations; (3) develops, implements, evaluates and disseminates education and communication interventions that seek to identify and educate affected populations, providers and the public on health risks, protective factors and measures of effectiveness of health promotion activities and prevention of complications related to blood disorders; (4) collects, analyzes and prepares reports to document the prevalence and incidence of blood disorders and related complications and provides this information to affected populations through reports, publications, and public access data sets; (5) supports public health analysis to include facilitating data collection, data management, data manipulation, analysis, project reporting and presentation; (6) coordinates partnership activities; (7) assesses informatics needs and develops strategies to ensure accurate collection of data related to blood disorders and the division's activities; (8) conducts applied research to develop, evaluate, improve and standardize public information systems and educational modules which support the prevention of complications from blood disorders; (9) develops and maintains systems for collection, processing, validation, storage and dissemination of the highest quality information to study and monitor blood disorders; (10) disseminates findings and advances arising out of surveillance and epidemiologic research to the scientific and public health communities, and the general public; (11) collaborates with and provides technical assistance, consultation, and training to local, State, Federal, and international agencies, universities and governmental and non-governmental organizations on blood disorders and health related issues; (12) collaborates with local, State, Federal, and international agencies, and appropriate governmental and non-governmental organizations to develop, review, and implement policies that advance the health of people with blood disorders across the lifespan; (13) collaborates with funded non-governmental agencies to disseminate best practices, identify areas of need, facilitate development and distribution of educational materials, and provide informational resources to States and affected populations and their caregivers; and (14) develops informatics related trainings and communicates informatics changes to external partners.

Dated: June 21, 2010.
William P. Nichols,
Chief Operating Officer, Centers for Disease Control and Prevention.

[FR Doc. 2010-16101 Filed 7-2-10; 8:45 am]

BILLING CODE 4160-18-M